FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 201208.

Title: Marine Terminal Services Agreement Port of Houston Authority and NYK Line (North America) Inc.

Parties: NYK Line (North America), Inc. and Port of Houston Authority.

Filing Party: Erik A. Erikcson, Esq.; Port of Houston Authority; P.O. Box 2562; Houston, TX 77252-2562.

Synopsis: The agreement sets certain discount rates and charges applicable to NYK Line, Inc.

Dated: August 6, 2010
By Order of the Federal Maritime Commission.
Karen V. Gregory,
Secretary.

[FR Doc. 2010-19859 Filed 8-10-10; 8:45 am]

BILLING CODE 6730-01-P